DEPARTMENT OF AGRICULTURE

Forest Service

Notice of Proposed New Fee Site; Federal Lands Recreation Enhancement Act

AGENCY: Humboldt-Toiyabe National Forest, USDA Forest Service.

ACTION: Notice.

SUMMARY: The Humboldt-Toiyabe National Forest is proposing to charge a $10.00 fee at Bob Scott Campground. Fees are assessed based on the level of amenities and services provided, cost of operations and maintenance, market assessment and public comment. The fee is proposed and will be determined upon further analysis and public comment. Funds from fees would be used for the continued operation, maintenance and improvements of this campground.

Amenities provided at Bob Scott campground include drinking water, flush toilets, garbage service, and sites with tables, grills and fire-rings. The proposed fee will allow continued operation and upkeep of these amenities, correction of sanitation and safety issues, repair and replacement of facilities when necessary, and generally improved conditions at the campground. Finally, these actions would improve the recreation experience.

An analysis of the campground shows that the proposed fees are reasonable and typical of similar sites in the area.

DATES: Comments will be accepted through November 13th 2009. New fees would begin May 2010.

ADDRESSES: Edward Monnig, Forest Supervisor, Humboldt-Toiyabe National Forest, 1200 Franklin Way, Sparks, Nevada 89431.

FOR FURTHER INFORMATION CONTACT: Scott Lamoreux, Recreation Fee Coordinator, 775-352-1254. Information about proposed fee changes can also be found on the Intermountain Region Web site: http://wwwfs.fed.us/r4/recreation/rac/index.shtml.

SUPPLEMENTARY INFORMATION: The Federal Recreation Lands Enhancement Act (Title VII, Pub. L. 108-447) directed the Secretary of Agriculture to publish a six-month advance notice in the Federal Register whenever new recreation fee areas are established. Once public involvement is complete, these new fees will be reviewed by a Recreation Resource Advisory Committee prior to a final decision and implementation.

Dated: July 7, 2009.
Jeremiah C. Ingersoll,
Humboldt-Toiyabe National Forest Deputy Forest Supervisor.

[FR Doc. E9-16474 Filed 7-14-09; 8:45 am]

BILLING CODE 3410-11-M